DEPARTMENT OF DEFENSE

Office of the Secretary

Defense Intelligence Agency Advisory Board; Closed Meeting

AGENCY: Defense Intelligence Agency, DoD.

ACTION: Notice of closed meeting.

SUMMARY: Pursuant to the provisions of subsection (d) of section 10 of Public Law 92-463, as amended by section 5 of Public Law 94-409, notice is hereby given that the Defense Intelligence Agency Advisory Board, will meet on March 22 and 23, 2010. The meeting is closed to the public.

DATES: The meeting will be held on March 22, 2010 (from 1 p.m. to 5 p.m.) and on March 23, 2010 (from 8 a.m. to 5 p.m.).

ADDRESSES: The meeting will be held at the Pentagon on March 22, and on Bolling Air Force Base on March 23.

FOR FURTHER INFORMATION CONTACT: Mr. William Caniano, Director, DIA Congressional and Public Affairs, Washington, DC 20340; phone: 703-614-4774.

SUPPLEMENTARY INFORMATION: The entire meeting is devoted to the discussion of classified information as defined in section 552b(c)(1), title 5 of the U.S. Code and therefore will be closed.

Dated: February 25, 2010.
Mitchell S. Bryman,
Alternate OSD Federal Register Liaison Officer, Department of Defense.

[FR Doc. 2010-4402 Filed 3-2-10; 8:45 am]

BILLING CODE 5001-06-P